DEPARTMENT OF COMMERCE

National Oceanic and Atmospheric Administration

RIN 0648-XA270

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. The EFP would exempt participating vessels from the following types of fishery regulations: Minimum fish size restrictions; fish possession limits; species quota closures; prohibited fish species, not including species protected under the Endangered Species Act; and gear-specific fish possession restrictions for the purpose of collecting fishery dependent catch data and biological samples that is being conducted by the Northeast Fisheries Science Center's (NEFSC) Study Fleet Program.

Regulations under the Magnuson-Stevens Fishery Conservation and Management Act require publication of this notification to provide interested parties the opportunity to comment on EFP applications.

DATES: Comments must be received on or before April 8, 2011.

ADDRESSES: You may submit written comments by any of the following methods:

• E-mail: nero.efp@noaa.gov. Include in the subject line “Comments on NEFSC Study Fleet EFP.”

• Mail: Patricia A. Kurkul, Regional Administrator, NMFS, NE Regional Office, 55 Great Republic Drive, Gloucester, MA 01930. Mark the outside of the envelope “Comments on NEFSC Study Fleet EFP.”

• Fax: (978) 281-9135.

FOR FURTHER INFORMATION CONTACT: Carly Knoell, Fisheries Management Specialist, 978-281-9224, Carly.Knoell@noaa.gov.

SUPPLEMENTARY INFORMATION: NEFSC submitted a complete application for an EFP on February 7, 2011, to conduct commercial fishing activities that the regulations would otherwise restrict. The EFP would exempt 24 Federally permitted commercial fishing vessels from the regulations detailed below while participating in the Study Fleet Program and operating under projects managed by the NEFSC. The EFP would exempt participating vessels from minimum fish size restrictions; fish possession limits; species quota closures; prohibited fish species, not including species protected under the Endangered Species Act; and gear-specific fish possession restrictions for the purpose of at-sea sampling and, in limited situations for research purposes only, to retain and land fish.

Crew trained by the NEFSC Study Fleet Program in methods that are consistent with the current NEFSC observer protocol, while under normal fishing operations, would sort, weigh, and measure fish that are to be discarded. An exemption from minimum fish size restrictions; fish possession limits; species quota closures; prohibited fish species, not including species protected under the Endangered Species Act; and gear-specific fish possession restrictions for at-sea sampling is required because some discarded species would be on deck slightly longer than under normal sorting procedures.

Participating vessels would also be authorized to retain and land, in limited situations for research purposes only, fish that do not comply with fishing regulations. The vessels would be authorized to retain specific amounts of particular species in whole or round weight condition, in marked totes, which would be delivered to Study Fleet Program technicians. In addition, if the EFP is approved, NEFSC and participatory vessels would be notified that spiny dogfish and black sea bass could not be targeted during a quota closure, and that any live spiny dogfish or black sea bass that are caught must be discarded. No spiny dogfish or black sea bass could be landed for commercial purposes as part of this research project during a quota closure. The NEFSC would require participating vessels to obtain written approval from the NEFSC Study Fleet Program prior to landing any fish in excess of possession limits and/or below minimum size limits to ensure that the landed fish do not exceed any of the Study Fleet Program's collection needs, as detailed below. None of the landed biological samples from these trips would be sold for commercial use or used for any other purpose other than scientific research.

The table below details the regulations from which the participating vessels would be exempt. The participating vessels would be required to comply with all other applicable requirements and restrictions specified at 50 CFR part 648, unless specifically exempted in this EFP. All catch of stocks allocated to Sectors by vessels on a Sector trip would be deducted from the Sector's Annual Catch Entitlement for each Northeast multispecies stock regardless of what fishery the vessel was participating in when the fish was caught.

NEFSC Study Fleet Program EFP
Number of vessels: Possession | 24: Possession for at-sea sampling plus limited landing
Exempted regulations in 50 CFR part 648 | Size limits:
| § 648.83(a)(3) NE multispecies minimum size.
| § 648.93 Monkfish minimum fish size.
| § 648.103 Summer flounder minimum fish size.
| § 648.143(a) Black sea bass minimum fish size.
| Possession restrictions:
| § 648.86(b) Atlantic cod.
| § 648.86(c) Atlantic halibut.
| § 648.86(e) White hake.
| § 648.86(g) Yellowtail flounder.
| § 648.86(g)(1) Southern New England Yellowtail flounder possession limit.
| § 648.86(j) Georges Bank Winter flounder.
| § 648.86(n)(1) Zero retention of SNE Winter flounder.
| § 648.94 Monkfish possession limit.
| § 648.22(c) Incidental possession limit of Loligo.
| § 648.322 Skate possession and landing restrictions.
| § 648.141 Black sea bass closure.
| § 648.145 Black sea bass possession limits.
| § 648.231 Spiny dogfish closure.
| § 648.235 Spiny dogfish possession and landing restrictions.

The following descriptions detail the NEFSC Study Fleet Program's Sampling Needs:

Haddock—whole fish would be retained for maturity and fecundity research. The haddock retained would not exceed 30 fish per trip, or 360 fish for all trips. The maximum weight of haddock on any trip would not exceed 120 lb (54.43 kg) total weight per trip, and would not exceed 1,440 lb (653.17 kg) for all trips combined.

Yellowtail Flounder—whole fish would be retained for maturity, fecundity, bioelectrical impedance analysis (BIA), food habits, and genetic research. The yellowtail flounder retained would not exceed 60 fish per month from each of the three stock areas (Gulf of Maine (GOM), Georges Bank (GB), Southern New England/Mid-Atlantic (SNE/MA)), or 1,800 fish total from each stock area for all trips. The maximum weight on any trip would not exceed 50 lb (22.70 kg) total weight, and would not exceed 1,500 lb (680.39 kg) for all trips combined.

Summer Flounder—whole fish would be retained for maturity, fecundity, BIA, food habits, and genetic research. The summer flounder retained would not exceed 60 fish per month from each of the three stock areas (GOM, GB, SNE/MA), or 1,800 fish total from each stock area for all trips. The maximum weight on any trip would not exceed 100 lb (45.36 kg) total weight, and would not exceed 3,000 lb (1,360.78 kg) for all trips combined.

Winter Flounder—whole fish would be retained for maturity, fecundity, BIA, food habits, and genetic research. The winter flounder retained would not exceed 60 fish per month from each of the three stock areas (GOM, GB, SNE/MA), or 1,800 fish total from each stock area for all trips. The maximum weight on any trip would not exceed 75 lb (34.02 kg) total weight, and would not exceed 2,250 lb (1,020.58 kg) for all trips combined.

Spiny Dogfish—Whole fish would be retained for reproductive biology research. The spiny dogfish retained would not exceed 50 fish per month from each of the two stock areas (GOM, SNE/MA), or 1,200 fish total for all trips. The maximum weight on any trip would not exceed 390 lb (176.9 kg), and would not exceed 9,360 lb (4,245.62 kg) total for all trips.

Monkfish—whole fish would be retained for maturity and fecundity research. Monkfish retained would not exceed 10 fish per trip, or 120 fish total for all trips. The maximum weight on any trip would not exceed 100 lb (45.36 kg) total weight, and would not exceed 1,200 lb (544.31 kg) for all trips combined.

Cod—whole fish would be retained for tagging demonstrations and educational purposes. Cod to be retained would not exceed 15 fish per trip, or 60 cod for all trips. The maximum weight on any trip would not exceed 150 lb (68.04 kg) total weight, and would not exceed 600 lb (272.16 kg) for all trips combined.

Barndoor Skate—whole and, in some cases, live skates would be retained for age and growth research and species confirmation. The barndoor skates retained would not exceed 20 fish per trip, or 80 skates total for all trips. The maximum weight on any trip would not exceed 75 lb (34.02 kg) total weight, and would not exceed 300 lb (136.08 kg) total for all trips combined.

Thorny Skate—whole and, in some cases, live skates would be retained for age and growth research and species confirmation. Thorny skates retained would not exceed 20 fish per trip, or 80 skates total for all trips. The maximum weight on any trip would not exceed 75 lb (34.02 kg) whole weight, and would not exceed 300 lb (136.08 kg) total for all trips combined.

Black Sea Bass—whole fish would be retained for examination of seasonal and latitudinal patterns in energy allocation. This effort is in support of an ongoing study at the NEFSC to evaluate BIA to measure fish energy density and reproductive potential for stock assessment. Black sea bass retained would not exceed 75 fish per trip or 300 black sea bass total for all trips. The maximum weight on any trip would not exceed 250 lb (113.40 kg) total weight, and would not exceed 1,000 lb (453.59 kg) total for all trips combined.

If approved, the applicant may request minor modifications and extensions to the EFP throughout the year. EFP modifications and extensions may be granted without further notice if they are deemed essential to facilitate completion of the proposed research and have minimal impact that do not change the scope or impact of the initially approved EFP request. Any fishing activity conducted outside the scope of the exempted fishing activity would be prohibited.

Authority: 16 U.S.C. 1801 et seq.

Dated: March 18, 2011.
Margo Schulze-Haugen,
Acting Director, Office of Sustainable Fisheries, National Marine Fisheries Service.

[FR Doc. 2011-7018 Filed 3-23-11; 8:45 am]

BILLING CODE 3510-22-P